DEPARTMENT OF ENERGY

Federal Energy Regulatory Commission

[Docket No. CP98-150-001]

Millennium Pipeline Company, L.P.; Notice of Meeting

June 8, 2000.

The Commission staff, Millennium Pipeline Company, L.P. (Millennium) and interested parties will meet on June 21, 2000, at 2:00 p.m. in Room 3M-2B at the Commission's offices at 888 First, Street, NE, Washington, DC 20426. Millennium previously filed on May 9, 2000, in Docket No. CP98-150-001 to amend its pending application to reflect a route variation in Westchester County, New York. That application to amend was rejected as incomplete by letter dated May 16, 2000, without prejudice to Millennium refiling a complete application.

Millennium has requested a meeting in anticipation of refiling of the application to amend.

David P. Boergers,
Secretary.

[FR Doc. 00-14922 Filed 6-13-00; 8:45 am]

BILLING CODE 6717-01-M